DEPARTMENT OF TRANSPORTATION

Federal Aviation Administration

14 CFR Part 39

[Docket No. FAA-2009-0864; Directorate Identifier 2008-NM-202-AD; Amendment 39-16544; AD 2010-26-05]

RIN 2120-AA64

Airworthiness Directives; DASSAULT AVIATION Model Falcon 10 Airplanes; Model FAN JET FALCON, FAN JET FALCON SERIES C, D, E, F, and G Airplanes; Model MYSTERE-FALCON 200 Airplanes; Model MYSTERE-FALCON 20-C5, 20-D5, 20-E5, and 20-F5 Airplanes; Model FALCON 2000 and FALCON 2000EX Airplanes; and Model MYSTERE-FALCON 50 and MYSTERE-FALCON 900 Airplanes, and FALCON 900EX Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

During maintenance on one aircraft, it was discovered that the overpressure capsules were broken on both pressurization valves. Failure of the pressurization control regulating valve (overpressure capsule) will affect the aircraft's overpressure protection * * *.

* * * * *

The unsafe condition is overpressurization, which can result in injury to the occupants and possible structural failure leading to loss of control of the airplane. We are issuing this AD to require actions to correct the unsafe condition on these products.

DATES: This AD becomes effective January 25, 2011.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Discussion

We issued a supplemental notice of proposed rulemaking (NPRM) to amend 14 CFR part 39 to include an AD that would apply to the specified products. That supplemental NPRM was published in the Federal Register on July 27, 2010 (75 FR 43878). That supplemental NPRM proposed to correct an unsafe condition for the specified products. The MCAI states:

During maintenance on one aircraft, it was discovered that the overpressure capsules were broken on both pressurization valves. Failure of the pressurization control regulating valve (overpressure capsule) will affect the aircraft's overpressure protection, possibly resulting in a structural failure in case of combination with another pressurization system failure. Consequently, Dassault Aviation has developed a repetitive check of this outflow valve capsule, which has already been introduced into the Maintenance of Components section (chapter 5-20) of the relevant Aircraft Maintenance Manuals (AMMs).

For the reason described above, this EASA [European Aviation Safety Agency] Airworthiness Directive (AD) requires a repetitive check of the outflow valve overpressure capsule, as it will also be introduced into the Airworthiness Limitations section (chapter 5-40) of the respective AMMs.

The unsafe condition is overpressurization, which can result in injury to the occupants and possible structural failure leading to loss of control of the airplane. Required actions include repetitive inspections for overpressure tightness on both regulating valves, and replacing the affected valve with a serviceable unit if necessary. You may obtain further information by examining the MCAI in the AD docket.

Comments

We gave the public the opportunity to participate in developing this AD. We considered the comment received.

Request for Certain Airplanes To Be Included in the Time Extension

Dassault Aviation requested that we revise the supplemental NPRM to extend the time interval for Model Mystere-Falcon 50 airplanes, for the overpressure tightness check that was specified in the supplemental NPRM. The extension of the time interval specified in the supplemental NPRM was from 1,630 flight hours to 1,640 flight hours for other models.

We agree to extend the time interval for Model Mystere-Falcon 50 airplanes in the final rule. The original NPRM defined a time interval for Model MYSTERE-FALCON 50, MYSTERE-FALCON 900, FALCON 900EX, FALCON 2000, and FALCON 2000EX airplanes. The supplemental NPRM extended the time interval for Model MYSTERE-FALCON 900, FALCON 900EX, FALCON 2000, and FALCON 2000EX airplanes. The extended interval for Model MYSTERE-FALCON 50 airplanes from 1,630 flight hours to 1,640 flight hours was coordinated with EASA. We have revised Table 1 of paragraph (g)(1) of the final rule accordingly.

Request for Inclusion of the Latest Procedure

Dassault Aviation requested that we revise the supplemental NPRM to refer to the most current version of Dassault Maintenance Procedure 21-160, of the Dassault Falcon 50/50EX Maintenance Manual. Dassault Aviation explains that the referenced maintenance procedure has been updated with a new picture and that the procedure is now dated January 2010.

We agree for the reasons stated by the commenter. We have revised Table 2 of the final rule to refer to Dassault Maintenance Procedure 21-160, dated January 2010, as a source of guidance on inspecting for overpress tightness on both valves for Model MYSTERE-FALCON 50 airplanes.

Conclusion

We reviewed the available data, including the comment received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD will affect 1,082 products of U.S. registry. We also estimate that it will take about 1 work-hour per product to comply with the basic requirements of this AD. The average labor rate is $85 per work-hour. Based on these figures, we estimate the cost of this AD to the U.S. operators to be $91,970, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-26-05 DASSAULT AVIATION: Amendment 39-16544. Docket No. FAA-2009-0864; Directorate Identifier 2008-NM-202-AD.

Effective Date

(a) This airworthiness directive (AD) becomes effective January 25, 2011.

Affected ADs

(b) None.

Applicability

(c) This AD applies to the airplanes identified in paragraphs (c)(1) and (c)(2) of this AD, certificated in any category.

(1) DASSAULT AVIATION Model Falcon 10 airplanes, Model FAN JET FALCON, FAN JET FALCON SERIES C, D, E, F, and G airplanes, and Model MYSTERE-FALCON 20-C5, 20-D5, 20-E5, and 20-F5 airplanes; all serial numbers, equipped with Liebherr or ABG-Semca pressurization outflow valves.

(2) DASSAULT AVIATION Model MYSTERE-FALCON 200 airplanes,

Model MYSTERE-FALCON 50 and MYSTERE-FALCON 900, and FALCON 900EX airplanes, and Model FALCON 2000 and FALCON 2000EX airplanes; all serial numbers.

Subject

(d) Air Transport Association (ATA) of America Code 21: Air Conditioning.

Reason

(e) The mandatory continuing airworthiness information (MCAI) states:

During maintenance on one aircraft, it was discovered that the overpressure capsules were broken on both pressurization valves. Failure of the pressurization control regulating valve (overpressure capsule) will affect the aircraft's overpressure protection * * *.

* * * * *

The unsafe condition is overpressurization, which can result in injury to the occupants and possible structural failure leading to loss of control of the airplane.

Compliance

(f) You are responsible for having the actions required by this AD performed within the compliance times specified, unless the actions have already been done.

Inspection and Replacement

(g) Unless already done, do the following actions.

(1) Within 6 months after the effective date of this AD, or before reaching the applicable time in the “Inspection Threshold” column specified in Table 1 of this AD, whichever occurs later, and thereafter at intervals not to exceed the applicable time in the “Inspection Interval” column specified in Table 1 of this AD: Inspect for overpressure tightness on both regulating valves using a method approved by either the Manager, International Branch, ANM-116, Transport Airplane Directorate, FAA; or the European Aviation Safety Agency (EASA) (or its delegated agent).

Table 1—Compliance Times
Affected airplanes | Inspection threshold (whichever occurs later) |  | Inspection interval
Model FAN JET FALCON, FAN JET FALCON SERIES C, D, E, F, and G airplanes, and Model MYSTERE-FALCON 20-C5, 20-D5, 20-E5, and 20-F5 airplanes equipped with Liebherr or ABG-Semca valves part number (P/N) 209xx0xxx0x; Model MYSTERE-FALCON 200 airplanes; Model Falcon 10 airplanes, equipped with Liebherr or ABG-Semca valves P/N 209xx0xxx0x. | Prior to the accumulation of 1,250 total flight hours on the regulating valve since new | Within 1,250 flight hours after the valve was cleaned in accordance with this AD | 1,250 flight hours.
Model MYSTERE-FALCON 50 airplanes, Model MYSTERE-FALCON 900, FALCON 900EX (including “F900EX-EASy” and “F900DX”), Model FALCON 2000, and FALCON 2000EX (including “F2000EX-EASy” and “F2000DX”) airplanes | Prior to the accumulation of 1,640 total flight hours on the regulating valve since new | Within 1,640 flight hours after the valve was cleaned in accordance with this AD | 1,640 flight hours.

Note 1: Guidance on inspecting for overpressure tightness on both regulating valves can be found in the applicable airplane maintenance manual identified in Table 2 of this AD.

Table 2—Maintenance Manual Guidance
For affected airplanes— | See Dassault maintenance procedure— | In maintenance manual—
Model Falcon 10 airplanes, equipped with Liebherr or ABG-Semca valves P/N 209xx0xxx0x | 21-32-01, dated July 2009 | Dassault Falcon 10 Maintenance Manual.
Model FALCON 900EX (including “F900EX-EASy” and “F900DX”) airplanes | 21-314, dated September 2008 | Dassault Falcon 900EX-EASy Maintenance Manual.
Model FALCON 2000 and FALCON 2000EX (including “F2000EX-EASy”) airplanes | 21-314, dated November 2008 | Dassault Falcon 2000 Maintenance Manual.
Model FALCON F2000DX airplanes | 21-314, dated November 2008 | Dassault Falcon 2000DX Maintenance Manual.
Model FAN JET FALCON, FAN JET FALCON SERIES C, D, E, F, and G airplanes, MYSTERE-FALCON 20-C5, 20-D5, 20-E5, and 20-F5 airplanes; equipped with Liebherr or ABG-Semca valves part number (P/N) 209xx0xxx0x | 21-31-10, dated October 2008 | Dassault Fan Jet Falcon Maintenance Manual.
Model MYSTERE-FALCON 50 airplanes | 21-160, dated January 2010 | Dassault Falcon 50/50EX Maintenance Manual.
Model MYSTERE-FALCON 200 airplanes | 051.0, dated December 2008 | Dassault Falcon 200 Maintenance Manual.
Model MYSTERE-FALCON 900 airplanes | 21-308, dated October 2008 | Dassault Falcon 900 Maintenance Manual.

(2) If any leak is found during any inspection required by paragraph (g)(1) of this AD, before further flight, replace the affected valve with a serviceable unit, using a method approved by either the Manager, International Branch, ANM-116, Transport Airplane Directorate, FAA; or the EASA (or its delegated agent).

Note 2: Guidance on replacing regulating valves can be found in the applicable airplane maintenance manual identified in Table 2 of this AD.

FAA AD Differences

Note 3: This AD differs from the MCAI as follows: Although paragraph (3) of the compliance section of the MCAI allows flight in accordance with the master minimum equipment list (MMEL) provisions after leaks are found, paragraph (g)(2) of this AD requires replacing affected valves before further flight.

Other FAA AD Provisions

(h) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Rodriguez, Aerospace Engineer, International Branch, ANM-116, Transport Airplane Directorate, FAA, 1601 Lind Avenue, SW., Renton, Washington 98057-3356; telephone (425) 227-1137; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

Related Information

(i) Refer to MCAI EASA Airworthiness Directive 2008-0072, dated April 18, 2008, for related information.

Material Incorporated by Reference

(j) None.

Issued in Renton, Washington, on December 10, 2010.
Ali Bahrami,
Manager, Transport Airplane Directorate, Aircraft Certification Service.

[FR Doc. 2010-31896 Filed 12-20-10; 8:45 am]

BILLING CODE 4910-13-P